FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/Address | Date reissued
17180F | American Logistic Co. Inc., 10840 Warner Avenue, Suite 205, Fountain Valley, CA 92708 | May 23, 2002.
15590N | Express Global Freight, Inc., 400 S. Atlantic Blvd., Suite #308, Monterey Park, CA 91754 | April 24, 2002.
12279NF | Frontrunner Worldwide, Inc., 5001 U.S. Highway 30 West, Fort Wayne, IN 46801-0988 | April 12, 2002.
6053N | Sino-Am Marine Company, Inc., 601 East Linden Avenue, Linden, NJ 07036 | May 25, 2002.
17354N | Wingar Logistics Inc., 9690 Telstar Avenue, Suite 207, El Monte, CA 91731 | May 25, 2002.

Sandra L. Kusumoto,
Director, Bureau of Consumer Complaints and Licensing.

[FR Doc. 02-18750 Filed 7-24-02; 8:45 am]

BILLING CODE 65730-01-P